DEPARTMENT OF LABOR

Pension and Welfare Benefits Administration

[Prohibited Transaction Exemption (PTE) 2002-21; Exemption Application No. D-11005]

Pacific Investment Management Company LLC (PIMCO), Located in Newport Beach, CA; Employee Benefit Plans: Prohibited Transaction Exemptions

AGENCY: Pension and Welfare Benefits Administration, U.S. Department of Labor (the Department).

ACTION: Notice of technical correction.

On March 28, 2002, the Department published PTE 2002-21 in the Federal Register at 67 FR 14988. PTE 2002-21 permits an employee benefit plan (the Plan), whose assets are held by PIMCO, as trustee, investment manager or discretionary fiduciary, to purchase shares of one or more open-end management investment companies registered under the Investment Company Act of 1940, to which PIMCO or any affiliate of PIMCO serves as investment adviser and may provide other services, in exchange for securities held by the Plan in an account or sub-account with PIMCO. PTE 2002-21 is effective as of February 5, 2002.

On page 14989 of the notice granting PTE 2002-21, the Department hereby corrects the last sentence of Section I(g) to read as follows in order to reflect standard industry practice:

* * * Such procedures must require that all securities for which a current market price cannot be obtained by reference to the last sale price for transactions reported on a recognized securities exchange or NASDAQ be valued based on an average of the highest current independent bid and lowest current independent offer, as of the close of business on the day of the Purchase Transaction determined on the basis of reasonable inquiry from at least two market makers or one pricing service that is independent of PIMCO.

FOR FURTHER INFORMATION CONTACT: Ms. Jan D. Broady of the Department at (202) 693-8556. (This is not a toll-free number.)

Signed at Washington, DC, this 17th day of May, 2002.
Ivan L. Strasfeld,
Director of Exemption Determinations, Pension and Welfare Benefits Administration, U.S. Department of Labor.

[FR Doc. 02-12830 Filed 5-21-02; 8:45 am]

BILLING CODE 4510-29-P